DEPARTMENT OF VETERANS AFFAIRS

[OMB Control No. 2900-0590]

Agency Information Collection Activity: Department of Veteran Affairs Acquisition Regulation (VAAR) Clauses 852.237-7, Indemnification and Medical Liability Insurance; 852.228-71, Indemnification and Medical Liability Insurance

AGENCY: Procurement Policy and Warrant Management Service (PPS), Office of Procurement Policy, Systems and Oversight, Office of Acquisition and Logistics, Department of Veterans Affairs.

ACTION: Notice.

SUMMARY: Procurement Policy and Warrant Management Service (PPS), Office of Procurement Policy, Systems and Oversight, Office of Acquisition and Logistics, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. DATES: Comments must be received on or before October 14, 2025

ADDRESSES: Comments must be submitted through www.regulations.gov.

FOR FURTHER INFORMATION CONTACT:

Program-Specific information: Forrest Browne, 202-632-9677, Forrest.Browne@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, PPS invites comments on: (1) whether the proposed collection of information is necessary for the proper performance of PPS's functions, including whether the information will have practical utility; (2) the accuracy of PPS's estimate of the burden of the proposed collection of information; (3) ways to enhance the quality, utility, and clarity of the information to be collected; and (4) ways to minimize the burden of the collection of information on respondents, including through the use of automated collection techniques or the use of other forms of information technology.

Title: Department of Veteran Affairs Acquisition Regulation (VAAR) Clauses 852.237-7, Indemnification and Medical Liability Insurance; and 852.228-71, Indemnification and Medical Liability Insurance.

OMB Control Number: 2900-0590. https://www.reginfo.gov/public/do/PRASearch (Once at this link, you can enter the OMB Control Number to find the historical versions of this Information Collection).

Type of Review: Extension of a currently approved collection.

Abstract: VAAR clause 852.237-7, Indemnification and Medical Liability Insurance, is used in lieu of Federal Acquisition Regulation (FAR) clause 52.237-7, Indemnification and Medical Liability Insurance, in solicitations and contracts for the acquisition of nonpersonal health care services. It requires the apparent successful bidder/offeror, upon the request of the contracting officer, prior to contract award, to furnish evidence of insurability of the offeror and/or all health-care providers who will perform under the contract. In addition, the clause requires the contractor, prior to commencement of services under the contract, to provide Certificates of Insurance or insurance policies evidencing that the firm possesses the types and amounts of insurance required by the solicitation. The information is required in order to protect VA by ensuring that the firm to which award may be made and the individuals who may provide health care services under the contract are insurable and that, following award, the contractor and its employees will continue to possess the types and amounts of insurance required by the solicitation. It helps ensure that VA will not be held liable for any negligent acts of the contractor or its employees and ensures that VA and VA beneficiaries will be protected by adequate insurance coverage.

VAAR clause 852.228-71, Indemnification and Insurance, is used in solicitations for vehicle or aircraft services. It requires the apparent successful bidder/offeror, prior to contract award, to furnish evidence that the firm possesses the types and amounts of insurance required by the solicitation. This evidence is in the form of a certificate from the firm's insurance company. The information is required to protect VA by ensuring that the firm to which award will be made possesses the types and amounts of insurance required by the solicitation. It helps ensure that VA will not be held liable for any negligent acts of the contractor and ensures that VA beneficiaries and the public are protected by adequate insurance coverage.

VA uses the information to determine whether additional contract terms and conditions are necessary to mitigate the conflict. An agency may not conduct or sponsor, and a person is not required to respond to a collection of information unless it displays a currently valid OMB control number.

Affected Public: Business or other for profit and not-for-profit institutions.

Estimated Annual Burden:

a. VAAR Clause 852.237-7, Indemnification and Medical Liability Insurance—750 hours.

b. VAAR clause 852.228-71, Indemnification and Insurance—250 hours.

Estimated Average Burden per Respondent:

a. VAAR Clause 852.237-7, Indemnification and Medical Liability Insurance—30 minutes.

b. VAAR clause 852.228-71, Indemnification and Insurance—30 minutes.

Frequency of Response:

a. VAAR Clause 852.237-7, Indemnification and Medical Liability Insurance—1 per each contract awarded.

b. VAAR clause 852.228-71, Indemnification and Insurance—1 per each contract awarded.

Estimated Number of Respondents:

a. VAAR Clause 852.237-7, Indemnification and Medical Liability Insurance—1500.

b. VAAR clause 852.228-71, Indemnification and Insurance—500.

Authority: 44 U.S.C. 3501 et seq.

Dorothy Glasgow,
Acting, VA PRA Clearance Officer, Office of Enterprise and Integration/Data Governance Analytics, Department of Veterans Affairs.

[FR Doc. 2025-15445 Filed 8-13-25; 8:45 am]

BILLING CODE 8320-01-P